DEPARTMENT OF TRANSPORTATION

Federal Railroad Administration

Notice of Application for Approval of Discontinuance or Modification of a Railroad Signal System or Relief From the Requirements of Title 49 Code of Federal Regulations Part 236

Pursuant to Title 49 Code of Federal Regulations (CFR) part 235 and 49 U.S.C. 20502(a), the following railroad has petitioned the Federal Railroad Administration (FRA) seeking approval for the discontinuance or modification of the signal system or relief from the requirements of 49 CFR part 236 as detailed below.

Docket Number FRA-2004-19819

Applicant: CSX Transportation, Incorporated, Mr. N. Michael Choat, Chief Engineer, Communications and Signal, 4901 Belfort Road, Suite 130, Jacksonville, Florida 32256.

CSX Transportation (CSXT) seeks approval to extend the temporary discontinuance of the traffic control system (TCS), for a period not to exceed one year, on a portion of the LH&StL Subdivision, Louisville Division between Louisville, Kentucky, milepost HR 6.8 and Doyle, Kentucky, milepost HR 110.9. The request is associated with the July 31, 2004-catastrophic event in which CSXT experienced a severe weather event, including tornadic storms, which devastated most of the existing pole line on the LH&StL Subdivision. The extensive pole line damage resulted in the suspension of the TCS, as authorized by Title 49 CFR, Section 235.7(a)(4), and the implementation of Direct Traffic Control Rules, under the direction of the train dispatcher, to govern train movements.

The reason given for the proposed changes is that appropriated funds have been approved to eliminate the remaining pole line between milepost HR 6.8 and milepost HR 110.9, through the installation of electronic-coded track circuits for vital control, and satellite/frame relay circuitry for non-vital controls. The work is currently in progress, but an extension for the temporary discontinuance is needed for completion of the scope of work, within CSXT's submitted time line.

Any interested party desiring to protest the granting of an application shall set forth specifically the grounds upon which the protest is made, and include a concise statement of the interest of the party in the proceeding. Additionally, one copy of the protest shall be furnished to the applicant at the address listed above.

All communications concerning this proceeding should be identified by the docket number and must be submitted to the Docket Clerk, DOT Central Docket Management Facility, Room PL-401 (Plaza Level), 400 7th Street, SW., Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC, on January 5, 2005.
Grady C. Cothen, Jr.,
Acting Associate Administrator for Safety.

[FR Doc. 05-571 Filed 1-11-05; 8:45 am]

BILLING CODE 4910-06-P